ADVISORY COUNCIL ON HISTORIC PRESERVATION

ACHP Quarterly Business Meeting

AGENCY: Advisory Council on Historic Preservation.

ACTION: Notice.

SUMMARY: Notice is hereby given that the Advisory Council on Historic Preservation (ACHP) will meet Thursday, May 5, 2011. The meeting will be held in Room M09 at the Old Post Office Building, 1100 Pennsylvania Ave, NW., Washington, DC at 10 a.m.

The ACHP was established by the National Historic Preservation Act of 1966 (16 U.S.C. 470 et seq.) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

Call to Order—10 a.m.

I. Chairman's Welcome

II. Presentation of Chairman's Award

III. Chairman's Report

IV. ACHP Management Issues

a. Credentials Committee report and recommendations

b. ACHP legislative agenda

c. Voting membership for the National Association of Tribal Historic Preservation Officers

d. Realignment of the Native American Advisory Group

e. Alumni Foundation

f. Future meeting planning

V. Preservation Initiatives

a. Follow up to youth session

b. Economic benefits study-presentation and next steps

c. Historic preservation in America's Great Outdoors

VI. “Rightsizing” America's cities and historic preservation

Recess for working lunch

VII. Discussion on “rightsizing”

VIII. Section 106 Issues

a. Executive Order 13563 on regulatory revision and Section 106 regulations

b. Archaeological issues for future consideration

c. Southwest Renewable Energy Development and Historic Preservation Working Group

IX. New Business

X. Adjourn

Note: The meetings of the ACHP are open to the public.

If you need special accommodations due to a disability, please contact the Advisory Council on Historic Preservation, 1100 Pennsylvania Avenue, NW., Room 803, Washington, DC, 202-606-8503, at least seven (7) days prior to the meeting. For further information:

Additional information concerning the meeting is available from the Executive Director, Advisory Council on Historic Preservation, 1100 Pennsylvania Avenue NW., #803, Washington, DC 20004.

Dated: April 18, 2011.
John M. Fowler,
Executive Director.

[FR Doc. 2011-9760 Filed 4-22-11; 8:45 am]

BILLING CODE 4310-K6-M